DEPARTMENT OF THE INTERIOR

Bureau of Land Management

[NV-030-00-1020-24]

Sierra Front-Northwestern Great Basin Resource Advisory Council; Notice of 2003 Meetings Locations and Times

AGENCY: Bureau of Land Management, Interior.

ACTION: Notice of 2003 Meetings Locations and Times for the Sierra Front-Northwestern Great Basin Resource Advisory Council (Nevada).

SUMMARY: In accordance with the Federal Land Policy and Management Act and the Federal Advisory Committee Act of 1972 (FACA), meetings of the U.S. Department of the Interior, Bureau of Land Management (BLM) Sierra Front-Northwestern Great Basin Resource Advisory Council (RAC), Nevada, will be held as indicated below. Topics for discussion at each meeting will include, but are not limited to: January 28-29, 2003 (Carson City, Nevada)—RAC review and recommendations on the Walker River Basin EIS, report on national wild horse & burro program status, field trip to the proposed National Wild Horse & Burro Adoption/Visitor Center site off U.S. Highway 50 in Moundhouse, Nevada; April 24-25, 2003 (Reno, Nevada)—official action on Black Rock NCA including subcommittee review and a possible ½-day session with NE California RAC, status of Nevada counties wilderness package development, and status of prescribed fire & wildland fire planning projects in the Carson City and Winnemucca Field Offices; and July 24-25, 2003 (Winnemucca, Nevada)—RAC review of Pine Nut Mountain Plan Amendment EIS, Sage Grouse program review and inspection of fire rehabilitation sites including an overnight camping trip in the Winnemucca Field Office area. Manager's reports of field office activities will be given at each meeting. The council may raise other topics at any of the three planned meetings.

Dates And Times: The RAC will meet three times in 2003 on January 28-29 (Tuesday & Wednesday), at the BLM-Carson City Field Office, 5665 Morgan Mill Road, Carson City, Nevada; on April 24-25 (Thursday & Friday), at the BLM-Nevada State Office, Great Basin A&B Conference Room, 1340 Financial Blvd., Reno, Nevada; and on July 24-25 (Thursday & Friday), at the BLM-Winnemucca Field Office, 5100 E. Winnemucca, Blvd., Winnemucca, Nevada. All meetings and field trips are open to the public. Each meeting will last from 8 a.m. to 4 p.m., plus, a general public comment period, where the public may submit oral or written comments to the RAC, will be at 11 a.m. on the first day of each meeting, unless otherwise listed in each specific, final meeting agenda.

Final detailed agendas, with any additions/corrections to agenda topics, locations, field trips and meeting times, will be available on the Internet at least 14 days before each meeting, at www.nv.blm.gov/rac; hard copies can also be mailed or sent via FAX. Individuals who need special assistance such as sign language interpretation or other reasonable accommodations, or who wish a hard copy of each agenda, should contact Mark Struble, Carson City Field Office, 5665 Morgan Mill Road, Carson City, NV 89701, telephone (775) 885-6107 no later than 10 days prior to each meeting.

FOR FURTHER INFORMATION CONTACT: Mark Struble, Public Affairs Officer, BLM Carson City Field Office, 5665 Morgan Mill Road, Carson City, NV 89701. Telephone: (775) 885-6107. E-mail: mstruble@nv.blm.gov

Dated: October 23, 2002.
John O. Singlaub,
Field Manager, Carson City Field Office.

[FR Doc. 02-27314 Filed 10-25-02; 8:45 am]

BILLING CODE 4310-HC-P